DEPARTMENT OF TRANSPORTATION

Federal Aviation Administration

[Docket No. FAA-2006-25755]

Operating Limitations at New York LaGuardia Airport; Denial of Request for Extension of Comment Period

AGENCY: Federal Aviation Administration (FAA), DOT.

ACTION: Denial of request for extension of comment period.

SUMMARY: This document denies the request to extend the comment period on the FAA's notice of proposed amendments to its December 12, 2006, order that places temporary limitations on flight operations at New York's LaGuardia Airport. The notice of proposed amendments was published in the Federal Register on August 7, 2007.

DATES: The closing date for comments on the notice of proposed amendments published on August 7, 2007 (72 FR 44214), remains September 6, 2007.

ADDRESSES: You may review the petition to extend the public comment period and other comments under Docket Number FAA-2006-25755 through the DOT Docket Web site at http://dms.dot.gov or at the Docket Management Facility in Room W12-140 of the West Building Ground Floor at 1200 New Jersey Avenue, SE., Washington, DC, between 9 a.m. and 5 p.m., Monday through Friday, except Federal holidays.

FOR FURTHER INFORMATION CONTACT: Komal Jain, Regulations Division, Office of the Chief Counsel, telephone (202) 267-3073; e-mail komal.jain@faa.gov.

SUPPLEMENTARY INFORMATION:

Background

On December 27, 2006, the FAA adopted operational limitations on New York LaGuardia Airport (LaGuardia) flights through an order (the Order) that became effective on January 1, 2007. 71 FR 77854. On August 7, 2007, the FAA subsequently proposed several amendments to the Order to improve the administration of the congestion management program at LaGuardia. Comments to that document are to be received on or before September 6, 2007.

By written request, dated August 7, 2007, the Air Transport Association of America, Inc. (ATA) and the Regional Airline Association (RAA) asked the FAA to extend the comment period for an additional 30 days. The FAA does not believe that an extension of time is necessary. The ATA and RAA recognized that a substantial number of the proposed amendments to the Order are technical corrections that they themselves identified to the FAA. While it may be difficult to coordinate comments from the petitioners' association during this “peak vacation” period and the Labor Day holiday, the FAA believes there is a stronger interest in the timely issuance of these amendments.

Issued in Washington, DC, on August 10, 2007.
James W. Whitlow,
Deputy Chief Counsel.

[FR Doc. 07-4003 Filed 8-10-07; 3:38 pm]

BILLING CODE 4910-13-P